ENVIRONMENTAL PROTECTION AGENCY

[FRL-9224-7]

Workshop To Review Draft Materials for the Lead (Pb) Integrated Science Assessment (ISA)

AGENCY: Environmental Protection Agency (EPA).

ACTION: Notice of Workshop.

SUMMARY: As part of the review of the air quality criteria and National Ambient Air Quality Standards (NAAQS) for Lead (Pb), EPA is announcing that a workshop to evaluate initial draft materials for the Pb Integrated Science Assessment (ISA) is being organized by EPA's National Center for Environmental Assessment (NCEA) within the Office of Research and Development. The workshop will be held on December 2 and 3, 2010 in Research Triangle Park, NC and will be open to attendance by interested public observers on a first-come first-serve basis up to the limits of available space.

DATES: The workshop will be held on December 2 and 3, 2010 at 8 a.m. and end at 5 p.m.

ADDRESSES: The workshop will be held in the Auditorium of EPA's main campus, 109 T.W. Alexander Drive, Research Triangle Park, NC. The EPA contractor, Versar, is providing logistical support for the workshop.

FOR FURTHER INFORMATION CONTACT: Questions regarding information, registration, and logistics for the workshop should be directed to Bethzaida Colon, Versar, Inc., Conference Coordinator, 6850 Versar Center, Springfield, VA 22151, telephone: 703-642-6727; facsimile: 703-642-6809; e-mail: BColon@versar.com. Questions regarding the scientific and technical aspects of the workshop should be directed to Dr. Ellen Kirrane, telephone: 919-541-1340; facsimile: 919-541-2895; e-mail: kirrane.ellen@epa.gov.

SUPPLEMENTARY INFORMATION:

I. Summary of Information About the Workshop

Section 109-(d) of the Clean Air Act requires the U.S. Environmental Protection Agency (EPA) to conduct periodic reviews of the air quality criteria for each air pollutant listed under section 108 of the Act. Based on such review, EPA is to retain or revise the NAAQS for a given pollutant as appropriate. As part of these reviews, NCEA assesses newly available scientific information and develops ISA documents (formerly known as Criteria Documents) that provide the scientific basis for the reviews of the NAAQS for Pb, particulate matter, carbon monoxide, nitrogen oxides, sulfur oxides, and ozone. Based on the information in the ISA, EPA's Office of Air Quality Planning and Standards typically conducts quantitative and qualitative risk and exposure assessments. The ISA and the risk/exposure assessments are used to prepare a policy assessment that informs subsequent rulemaking actions.

NCEA-RTP is holding this workshop to inform the Agency's evaluation of the scientific evidence for the review of the NAAQS for Pb. The purpose of the workshop is to obtain review of the scientific content of initial draft materials or sections for the draft ISA. Workshop sessions will include review and discussion of initial draft sections on the health effects evidence from in vivo and in vitro animal toxicology studies, and from epidemiology studies as well as evidence of the ecological effects of Pb. In addition, roundtable discussions will help identify key studies or concepts within each discipline to assist EPA in integrating within and across disciplines. This workshop is intended to help ensure that the ISA is up-to-date and focuses on the key evidence to inform the scientific understanding for the review of the NAAQS for Pb. EPA is planning to release the first external review draft ISA for Pb for review by the Clean Air Scientific Advisory Committee and the public in May 2011.

II. Workshop Information

Members of the public may attend the workshop as observers. Space is limited, and reservations will be accepted on a first-come, first-serve basis.

Dated: Novemer 2, 2010.
Darrell A. Winner,
Acting Director, National Center for Environmental Assessment.

[FR Doc. 2010-28380 Filed 11-9-10; 8:45 am]

BILLING CODE 6560-50-P